DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Revised Management Plan for the Guana Tolomato Matanzas National Estuarine Research Reserve in Florida.

SUMMARY: Notice is hereby given that the Estuarine Reserves Division, Office of Ocean and Coastal Resource Management, National Ocean Service, National Oceanic and Atmospheric Administration (NOAA), U.S. Department of Commerce is announcing a thirty-day public comment period on the revised Management Plan for the Guana Tolomato Matanzas National Estuarine Research Reserve in Florida.

The Guana Tolomato Matanzas National Estuarine Research Reserve is located in St. Johns and Flagler counties and is geographically separated into a northern and southern component separated by the City of St. Augustine. The reserve was designated in 1999. Pursuant to 15 CFR Section 921.33(c), a state must revise their management plan every five years. The submission of this plan brings the Reserve into compliance and sets a course for successful implementation of the goals and objectives of the Reserve. Updated programmatic objectives, new facilities, and a boundary expansion are notable revisions from the previous management plan.

The revised management plan outlines the administrative structure; the education, stewardship, and research goals of the reserve; and the plans for future land acquisition and facility development to support reserve operations. The reserve management goals and objectives can be categorized within the following five management challenges: Public use, habitat and species management, watershed land use, cultural preservation and interpretation, and global processes. These issues can be directly or indirectly linked to anthropogenic land use of increasing population densities accompanied by increasing development, recreation and economic pressures.

The Guana Tolomato Matanzas Environmental Education Center is a notable addition since the last management plan and serves as the administrative, education, research, and stewardship facility for the northern component of the Reserve. The facility will provide an opportunity for further outreach to the community and serve as a center of excellence for regional science, education and stewardship forums.

This management plan calls for a boundary expansion incorporating 8,865 acres of publicly owned land in the southern component of the reserve. Approximately 4,166 acres of the Faver-Dykes State Park adding to the 1,333 acres of Faver-Dykes State Park incorporated at designation. The additional park lands will provide new resources and allow for an extension of the existing partnership. Additionally, 4,699 acres of the Matanzas State Forest will be added to the Reserve boundary. This property will be incorporated to further protect the last remaining undisturbed salt marsh within the Reserve and is part of a 16,000 acre continuous conservation corridor. This land is comprised 75% by upland pine and 25% by wetlands. The area serves as an important bird habitat and contains significant natural and cultural resources. These additions will bring the total Reserve acreage to 73,352 acres protected for long-term research, education and stewardship.

FOR FURTHER INFORMATION CONTACT: Erica Seiden at (301) 563-1172 or Laurie McGilvray at (301) 563-1158 of NOAA's National Ocean Service, Estuarine Reserves Division, 1305 East-West Highway, N/ORM5, 10th floor, Silver Spring, MD 20910. For copies of the Guana Tolomato Matanzas, FL Management Plan revision, visit http://www.dep.state.fl.us/coastal/sites/gtm/plan/.

Dated: June 30, 2008.
David M. Kennedy,
Director, Office of Ocean and Coastal Resource Management National Oceanic and Atmospheric Administration.

[FR Doc. E8-15351 Filed 7-3-08; 8:45 am]

BILLING CODE 3510-08-P